DEPARTMENT OF COMMERCE

National Oceanic and Atmospheric Administration

[I.D. 120805B]

Notice of Intent to Conduct Public Scoping Meetings and Prepare an Environmental Impact Statement on the Activities of the National Marine Mammal Health and Stranding Response Program

AGENCY: National Marine Fisheries Service (NMFS), National Oceanic and Atmospheric Administration (NOAA), Commerce.

ACTION: Notice of Intent to prepare environmental impact statement; request for comments.

SUMMARY: The National Marine Fisheries Service (NMFS) announces its intent to prepare an Environmental Impact Statement (EIS) to analyze the environmental impacts of the national administration of the Marine Mammal Health and Stranding Response Program (MMHSRP).

Publication of this notice begins the official scoping process that will help identify alternatives and determine the scope of environmental issues to be addressed in the EIS. This notice requests public participation in the scoping process, provides information on how to participate, and identifies a set of preliminary alternatives to serve as a starting point for discussions.

ADDRESSES: See SUPPLEMENTARY INFORMATION for specific dates, times, and locations of public scoping meetings for this issue.

FOR FURTHER INFORMATION CONTACT: All comments, written statements and questions regarding the scoping process, NEPA process, and preparation of the EIS must be postmarked by February 28, 2006, and should be mailed to: P. Michael Payne, Chief, Marine Mammal and Sea Turtle Division, Office of Protected Resources, National Marine Fisheries Service, 1315 East-West Highway, Room 13635, Silver Spring, MD 20910-3226, Fax: 301-427-2584 ATTN: MMHSRP EIS or e-mail at mmhsrpeis.comments@noaa.gov with the subject line MMHSRP EIS.

SUPPLEMENTARY INFORMATION:

Background

NMFS proposes to continue to coordinate and operate the National Marine Mammal Health and Stranding Response Program (MMHSRP) for response to stranded marine mammals and research into questions related to marine mammal health, including causes and trends in marine mammal health and the causes of strandings, pursuant to Title IV of the Marine Mammal Protection Act (MMPA; 16 U.S.C. 1421). Title IV of the MMPA established the MMHSRP under NMFS. The mandated goals and purposes for the program are to: (1) facilitate the collection and dissemination of reference data on the health of marine mammals and health trends of marine mammal populations in the wild; (2) correlate the health of marine mammals and marine mammal populations, in the wild, with available data on physical, chemical, and biological environmental parameters; and (3) coordinate effective responses to unusual mortality events by establishing a process in the Department of Commerce in accordance with section 404.

To meet the goals of the MMPA, the MMHSRP carries out several important activities, including the National Marine Mammal Stranding Network, the John H. Prescott Marine Mammal Rescue Assistance Grant Program, the Marine Mammal Disentanglement Program, the Marine Mammal Unusual Mortality Event and Emergency Response Program, the Marine Mammal Biomonitoring Program, the Marine Mammal Tissue and Serum Bank Program, the Marine Mammal Analytical Quality Assurance Program, the MMHSRP Information Management Program, and the facilitation of several regional health assessment programs on wild marine mammals.

A marine mammal is defined as “stranded” under the MMPA if it is dead and on the beach or shore or floating in waters under US jurisdiction, or alive and on the beach and unable to return to the water, in need of medical assistance, or out of its natural habitat and unable to return to its natural habitat without assistance. NMFS is currently developing and plans to issue national protocols that will help standardize the stranding network across the country while maintaining regional flexibility. These protocols are proposed to be issued in one consolidated manual, titled Policies and Best Practices for Marine Mammal Stranding Response, Rehabilitation and Release (Policies and Practices). This document is currently released on an interim basis, and will be available on our website after January 9, 2006, at: http://www.nmfs.noaa.gov/pr/health/ for reference and review. The future development of these policies may involve issuance of regulations, but none are currently proposed.

Individuals, groups and organizations throughout the country have been responding to stranded marine mammals for decades. After the passage of Title IV, NMFS codified the roles and responsibilities of participant organizations in the National Marine Mammal Stranding Network through a Letter of Agreement (LOA) or Stranding Agreement (SA), issued under MMPA section 112(c). By issuing SAs, NMFS allows stranding network response organizations, acting as 'agents' of the government, an exemption to the prohibition on “takes” of marine mammals established under the MMPA. Federal, state and local government officials already have an exemption to the take prohibition under section 109(h) of the MMPA, which allows the taking of marine mammals (not listed as threatened or endangered) during the course of official duties, provided such taking is for the protection or welfare of the mammal, for public health, or for the nonlethal removal of nuisance animals. SAs (as conceived) extend the same exemption to organizations and individuals that are outside of the government.

Stranding Agreements are issued by NMFS Regional Administrators, and in the past a high level of variability has occurred between regions. A standardized national template for the format of the SA has been developed, including sections that may be customized by each region in order to maintain flexibility. This SA template has been subject to public comment on several occasions after publication on NMFS' public website and distribution to interested parties (most recently on Nov. 8, 2004). NMFS has also developed a list of minimum criteria for organizations wishing to obtain a SA and participate in the stranding network, and these have also been distributed for public comment. These criteria differ based on the level of involvement of the participant (response only; response and transport; rehabilitation, etc.). Substantive comments received on these documents have been either incorporated or responded to, if the authors chose not to incorporate them. The LOA Template and Minimum Eligibility Criteria are the first two elements of the “Policies and Practices” manual.

While the MMPA provides an exception to the take prohibition for the health and welfare of stranded marine mammals, no similar exemption is contained in the Endangered Species Act (ESA). Not all, but many, species of marine mammals are listed as threatened or endangered under the ESA, and are therefore protected by both laws. Therefore, the MMHSRP has obtained a permit from the Permits, Conservation and Education Division of the NMFS Office of Protected Resources, issued under the MMPA and section 10(a)(1)(A) of the ESA, to provide the necessary exemption to the take prohibition where the stranded animal in question is listed under the ESA, or when response to a stranded animal would or could incidentally harass a listed species. The permit covers stranding and emergency response activities, including for example, disentanglement, hazing, close approaches, and humane euthanasia. Captures of wild (presumably healthy) animals are also permitted to conduct health assessment studies, where such activities are part of an investigation into a morbidity or mortality issue in the wild population, but this is a rare occurrence (not routine procedure). Stranding network responders are listed as co-investigators under this permit. The permit also authorizes a variety of research projects utilizing stranded animals, tissue samples, and marine mammal parts for investigations into die-offs and other questions regarding marine mammal health and stranding. The current permit issued to the MMHSRP will expire on June 30, 2007, and a NEPA analysis of the activities covered under the permit must be completed prior to the issuance of a new permit. This EIS will serve as the NEPA analysis of these permitted activities.

Marine mammals that are undergoing rehabilitation, and the facilities that are conducting rehabilitation activities, are not subject to inspection or review by the Animal and Plant Health Inspection Service (APHIS) under the United States Department of Agriculture, provided that they are not also a public display facility (separate from their rehabilitation activities) or a research facility. These facilities are therefore not subject to APHIS minimum requirements for facilities, husbandry, or veterinary standards. NMFS has developed minimum standards for marine mammal rehabilitation facilities that will be required of all facilities operating under a SA with NMFS, and the interim rehabilitation facility standards document is the third element of the Policies and Practices manual.

Section 402 (a) of the MMPA charges NMFS with providing “guidance for determining at what point a rehabilitated marine mammal is releasable to the wild.” Interim standards for release of rehabilitated marine mammals have been developed by NMFS and the US Fish and Wildlife Service in consultation with marine mammal experts through review and public comments, including publication in the Federal Register on April 8, 1998 (63 FR 17156). Three panels of experts were also assembled in 2001 to provide individual recommendations, which have been incorporated into the current interim document. These guidelines provide an evaluative process for the veterinarians and animal husbandry staff at rehabilitation facilities to use in determining if a stranded marine mammal is suitable for release to the wild, and under what conditions such a release should occur. The interim standards are provided in the Policies and Practices manual.

Purpose and Scope of the Action

NMFS will prepare an EIS to evaluate the cumulative impacts of the activities of the MMHSRP, including the issuance of a final Policies and Procedures manual and a new MMPA/ESA permit for the program. This EIS will assess the likely environmental effects of marine mammal health and stranding response under a range of alternatives characterized by different methods, mitigation measures, and level of response. In addition, the EIS will identify potentially significant direct, indirect, and cumulative impacts on geology and soils, air quality, water quality, other fish and wildlife species and their habitat, vegetation, socioeconomics and tourism, treaty rights and Federal trust responsibilities, environmental justice, cultural resources, noise, aesthetics, transportation, public services, and human health and safety, and other environmental issues that could occur with the implementation of the proposed action. For all potentially significant impacts, the EIS will identify avoidance, minimization and mitigation measures to reduce these impacts, where feasible, to a level below significance.

Major environmental concerns that will be addressed in the EIS include: NMFS' information needs for the conservation of marine mammals; the types and levels of stranding response and rehabilitation activities, including level of effort; and the cumulative impacts of MMHSRP activities on marine mammals and the environment. Comments and suggestions are invited from all interested parties to ensure that the full range of issues related to the MMHSRP and its activities are identified. NMFS is therefore seeking public comments especially in the following areas:

(1) Types of activities. What sort of activities in response to stranded marine mammals or outbreaks of disease in marine mammals should be conducted on a national level? Are there critical research needs that may be met by stranding investigations, rehabilitation, biomonitoring, disentanglement, and other health-related research activities? If so, are these needs currently being met? If there are additional needs, what are they, how are they likely to benefit the marine mammal species, and how should they best be met?

(2) Level of response effort. For example, should there be different standards or levels of effort for different species or groups of species (i.e. pinnipeds vs. cetaceans; threatened or endangered species vs. increasing populations, etc.)? How should NMFS set these standards or limits?

(3) Organization and qualifications. How should the national stranding network be organized at the local, state, regional, eco-system, and national levels? How should health assessment research be coordinated or organized nationally? What should the minimum qualifications of an individual or organization be prior to becoming an SA holder or researcher (utilizing samples from stranded animals) to ensure that animals are treated successfully, humanely, and with the minimum of adverse impacts?

(4) Effects of activities. NMFS will be assessing possible effects of the activities conducted by, for, and under the authorization of the MMHSRP using all appropriate available information. Anyone having relevant information they believe NMFS should consider in its analysis should provide a complete citation or reference for retrieving the information. We seek public input on the scope of the required NEPA analysis, including th range of reasonable alternatives; associated impacts of any alternatives on the human environment, including geology and soils, air quality, water quality, other fish and wildlife species and their habitat, vegetation, socioeconomics and tourism, treaty rights and Federal trust responsibilities, environmental justice, cultural resources, noise, aesthetics, transportation, public services, and human health and safety, and suitable mitigation measures. We ask that comments be as specific as possible.

Alternatives

NMFS has identified several preliminary alternatives for public comment during the scoping period and encourage information on additional alternatives to consider. Alternative 1, the Proposed Action Alternative, would result in the publication of the Practices and Protocols Handbook and the establishment of required minimum standards for the national marine mammal stranding and disentanglement networks. The MMHSRP permit would also be issued under this alternative to permit response activities for endangered species, disentanglement activities, biomonitoring projects, other research projects conducted by or in cooperation with the program, and import and export of tissue and other diagnostic or research samples.

Alternative 2, the No Action Alternative, would continue the activities of the national stranding and disentanglement networks without issuance of the Policies and Practices. No new or renewal Stranding Agreements would be issued or extended, and the MMHSRP would not apply for or receive a new permit. As Stranding Agreements with organizations expired, the network would cease to function. The No Action Alternative is required to be included for consideration by CEQ regulations.

Alternative 3 is considered the Status Quo alternative and would allow for the continuation of the stranding and disentanglement networks currently in place in the country, and the Policies and Practices documents would not be issued. However, under the Status Quo alternative, Stranding Agreements could be renewed or extended (though not modified), such that the current level of response would continue. No new SAs would be issued to facilities that are not currently part of the national stranding network. This would preclude adaptive changes in the stranding network as organizations change priorities and wish to leave the network, or as new facilities are created and wish to become involved. The MMHSRP permit could be renewed or reissued as written, with no modifications. There could be no adaptive changes to the research protocols as new issues were raised or advances made in technology.

Other alternatives considered by NMFS may be eliminated from detailed study because they would limit or prohibit activities necessary for the conservation of the species by NMFS. The other alternatives that have been considered but may be eliminated from further study are: (1) An alternative that allows for biomonitoring activities only (tissue sampling and study of animals caught during targeted health assessment projects, subsistence hunts, and as incidental bycatch in fishery activities only); (2) an alternative that allows for a stranding response only (no rehabilitation activities; response to live animals would be limited to euthanasia or release; no disentanglement or health assessment activities; ); (3) an alternative that allows for response and rehabilitation for cetaceans only; and (4) an alternative that allows for response and rehabilitation for ESA-listed marine mammals only. The elimination of any of these activities would impede data collection regarding strandings and the health of marine mammals that is necessary for NMFS conservation and recovery efforts for many species.

In addition to the alternatives listed above, NMFS will also utilize the scoping process to identify other alternatives for consideration. It should be noted that although several of the listed alternatives would not allow for the mandated activities listed in the MMPA, under 40 CFR 1506.2(d), reasonable alternatives cannot be excluded strictly because they are inconsistent with Federal or state laws, but must still be evaluated in the EIS.

For additional information about the MMHSRP, the national stranding network, and related information, please visit our website at http://www.nmfs.noaa.gov/pr/health/.

Public Involvement and Scoping Meetings Agenda

Public scoping meetings will be held at the following dates, times, and locations:

1. Tuesday, January 24, 2006, 7 - 10 p.m., Santa Barbara Natural History Museum, 2559 Puesta del Sol, Santa Barbara, CA;

2. Wednesday, January 25, 2006, 2 - 5 p.m.; Bay Conservation and Development Commission, 50 California Street, Suite 2600, San Francisco, CA;

3. Friday, January 27, 2006, 3 - 6 p.m., Hawaiian Islands Humpback Whale National Marine Sanctuary O'ahu Office, 6600 Kalaniana'ole Highway, Honolulu, HI;

4. Monday, January 30, 2006, 2 - 5 p.m., NMFS Northwest Regional Office, Building 9, 7600 Sand Point Way NE, Seattle, WA;

5. Wednesday, February 1, 2006, 2 - 5 p.m., U.S. Fish and Wildlife Service, 1011 East Tudor Road, Anchorage, AK;

6. Tuesday, February 7, 2006, 5 - 8 p.m., NMFS Southeast Regional Office, 263 13th Avenue, South, St. Petersburg, FL;

7. Monday, February 13, 2006, 5 - 8 p.m., New England Aquarium, Conference Center, Central Wharf, Boston, MA;

8. Friday, February 17, 2006, 2 - 5 p.m., Silver Spring Metro Center, Building 4, Science Center, 1301 East-West Highway, Silver Spring, MD.

Comments will be accepted at these meetings as well as during the scoping period, and can be mailed to NMFS by February 28, 2006 (see FOR FURTHER INFORMATION CONTACT).

We will consider all comments received during the comment period. All hardcopy submissions must be unbound, on paper no larger than 8 1/2 by 11 inches (216 by 279 mm), and suitable for copying and electronic scanning. We request that you include in your comments:

(1) Your name and address;

(2) Whether or not you would like to receive a copy of the Draft EIS (please specify electronic or paper format of the Draft EIS); and

(3) Any background documents to support your comments as you feel necessary.

All comments and material received, including names and addresses, will become part of the administrative record and may be released to the public.

Special Accommodations

These meetings are accessible to people with disabilities. Requests for sign language interpretation or other auxiliary aids should be directed to Sarah Howlett or Sarah Wilkin, 301-713-2322 (voice) or 301-427-2522 (fax), at least 5 days before the scheduled meeting date.

P. Michael Payne,
Chief, Marine Mammal and Sea Turtle Division, Office of Protected Resources, National Marine Fisheries Service.

[FR Doc. E5-7990 Filed 12-27-05; 8:45 am]

BILLING CODE 3510-22-S